DEPARTMENT OF ENERGY

Federal Energy Regulatory Commission

Combined Notice of Filings #1

Take notice that the Commission received the following electric rate filings:

Docket Numbers: ER15-2376-003; ER15-2025-002.

Applicants: Energy Power Investment Company, LLC, EPP Renewable Energy, LLC.

Description: Notice of Non-Material Change in Status of Energy Power Investment Company, LLC, et al.

Filed Date: 7/12/21.

Accession Number: 20210712-5183.

Comments Due: 5 p.m. ET 8/2/21.

Docket Numbers: ER20-660-006; ER10-1892-019; ER10-2739-032; ER16-1652-019; ER16-1924-006; ER16-1925-006; ER16-1926-006.

Applicants: Bolt Energy Marketing, LLC, Columbia Energy LLC, LifeEnergy, LLC, LS Power Marketing, LLC, Bison Solar LLC, Pavant Solar II LLC, San Isabel Solar LLC.

Description: Notice of Change in Status of Bolt Energy Marketing, LLC, et al.

Filed Date: 7/12/21.

Accession Number: 20210712-5185.

Comments Due: 5 p.m. ET 8/2/21.

Docket Numbers: ER20-1719-003.

Applicants: PPL Electric Utilities Corporation, PJM Interconnection, L.L.C.

Description: Compliance filing: PPL Electric submits Deficiency Response to Compliance in ER20-1719 re Order 864 to be effective N/A.

Filed Date: 7/13/21.

Accession Number: 20210713-5059.

Comments Due: 5 p.m. ET 8/3/21.

Docket Numbers: ER20-2452-003; ER20-844-002; ER20-2453-004.

Applicants: Hamilton Liberty LLC, Hamilton Patriot LLC, Hamilton Projects Acquiror, LLC.

Description: Notice of Non-Material Change in Status of Hamilton Liberty LLC, et al.

Filed Date: 7/9/21.

Accession Number: 20210709-5164.

Comments Due: 5 p.m. ET 7/30/21.

Docket Numbers: ER21-1191-007.

Applicants: Southwestern Electric Power Company.

Description: Tariff Amendment: Amended and Restated Minden PSA to be effective 8/1/2018.

Filed Date: 7/12/21.

Accession Number: 20210712-5128.

Comments Due: 5 p.m. ET 8/2/21.

Docket Numbers: ER21-1572-000.

Applicants: Avista Corporation.

Description: Report Filing: Avista Response to Request for Additional Information, Docket No. ER21-1572-000 to be effective N/A.

Filed Date: 7/8/21.

Accession Number: 20210708-5045.

Comments Due: 5 p.m. ET 7/29/21.

Docket Numbers: ER21-2400-000.

Applicants: Long Island Power Authority.

Description: Joint Request for Limited Waiver of Long Island Power Authority and Long Island Solar Farm.

Filed Date: 7/12/21.

Accession Number: 20210712-5181.

Comments Due: 5 p.m. ET 8/2/21.

Docket Numbers: ER21-2401-000.

Applicants: Oliver Wind Energy Center II, LLC.

Description: Baseline eTariff Filing: Reactive Power Compensation Filing to be effective 8/31/2021.

Filed Date: 7/13/21.

Accession Number: 20210713-5045.

Comments Due: 5 p.m. ET 8/3/21.

Docket Numbers: ER21-2402-000.

Applicants: MET Southwest Trading LLC.

Description: Tariff Cancellation: Cancellation of MBR Tariff to be effective 7/14/2021.

Filed Date: 7/13/21.

Accession Number: 20210713-5051.

Comments Due: 5 p.m. ET 8/3/21.

Docket Numbers: ER21-2403-000.

Applicants: Solios Power Mid-Atlantic Trading, LLC.

Description: Tariff Cancellation: Cancellation of MBR Tariff to be effective 7/14/2021.

Filed Date: 7/13/21.

Accession Number: 20210713-5052.

Comments Due: 5 p.m. ET 8/3/21.

Docket Numbers: ER21-2404-000.

Applicants: PJM Interconnection, L.L.C.

Description: § 205(d) Rate Filing: Original WMPA, SA No. 6107; Queue No. AG1-318 to be effective 6/23/2021.

Filed Date: 7/13/21.

Accession Number: 20210713-5053.

Comments Due: 5 p.m. ET 8/3/21.

Docket Numbers: ER21-2405-000.

Applicants: Southern California Edison Company.

Description: Tariff Cancellation: Amended CLGIA ORNI 50 LLC & Notice of Termination of the eTariff to be effective 7/14/2021.

Filed Date: 7/13/21.

Accession Number: 20210713-5058.

Comments Due: 5 p.m. ET 8/3/21.

Docket Numbers: ER21-2406-000.

Applicants: Lancaster Solar LLC.

Description: Baseline eTariff Filing: Market-Based Rate Application to be effective 9/12/2021.

Filed Date: 7/13/21.

Accession Number: 20210713-5097.

Comments Due: 5 p.m. ET 8/3/21.

Docket Numbers: ER21-2407-000.

Applicants: SR Georgia Portfolio II Lessee, LLC.

Description: Baseline eTariff Filing: Market-Based Rate Application to be effective 9/12/2021.

Filed Date: 7/13/21.

Accession Number: 20210713-5105.

Comments Due: 5 p.m. ET 8/3/21.

Docket Numbers: ER21-2408-000.

Applicants: SR Lumpkin, LLC.

Description: Baseline eTariff Filing: Market-Based Rate Application to be effective 9/12/2021.

Filed Date: 7/13/21.

Accession Number: 20210713-5114.

Comments Due: 5 p.m. ET 8/3/21.

Docket Numbers: ER21-2409-000.

Applicants: SR Snipesville II, LLC.

Description: Baseline eTariff Filing: Market-Based Rate Application to be effective 9/12/2021.

Filed Date: 7/13/21.

Accession Number: 20210713-5119.

Comments Due: 5 p.m. ET 8/3/21.

Take notice that the Commission received the following public utility holding company filings:

Docket Numbers: PH21-12-000.

Applicants: Enbridge Inc.

Description: Enbridge Inc. submits FERC-65A Notice of Material Change in Facts to Waiver Notification.

Filed Date: 7/9/21.

Accession Number: 20210709-5163.

Comments Due: 5 p.m. ET 7/30/21.

Docket Numbers: PH21-13-000.

Applicants: LS Power Development, LLC.

Description: LS Power Development, LLC submits FERC-65B Notice of Non-Material Change in Fact to Waiver Notification.

Filed Date: 7/12/21.

Accession Number: 20210712-5172.

Comments Due: 5 p.m. ET 8/2/21.

Take notice that the Commission received the following PURPA 210(m)(3) filings:

Docket Numbers: QM21-26-000.

Applicants: Northern Virginia Electric Cooperative.

Description: Application of Northern Virginia Electric Cooperative, Inc. to Terminate Its Mandatory Purchase Obligation under the Public Utility Regulatory Policies Act of 1978.

Filed Date: 7/13/21.

Accession Number: 20210713-5064.

Comments Due: 5 p.m. ET 8/10/21.

Take notice that the Commission received the following electric reliability filings:

Docket Numbers: RR21-6-000.

Applicants: North American Electric Reliability Corp, SERC Reliability Corporation.

Description: Joint Petition of the North American Electric Reliability Corporation and SERC Reliability Corporation for Approval of Amendments to the SERC Reliability Corporation Bylaws.

Filed Date: 7/9/21.

Accession Number: 20210709-5166.

Comments Due: 5 p.m. ET 7/30/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 13, 2021.
Debbie-Anne A. Reese,
Deputy Secretary.

[FR Doc. 2021-15318 Filed 7-19-21; 8:45 am]

BILLING CODE 6717-01-P